DEPARTMENT OF HEALTH AND HUMAN SERVICES

Administration for Children and Families

Reallotment of Funds for FY 1999 Low Income Home Energy Assistance Program (LIHEAP)

AGENCY: Office of Community Services, ACF, DHHS.

ACTION: Notice of determination concerning funds available for reallotment.

SUMMARY: In accordance with section 2607(b)(1) of the Omnibus Budget Reconciliation Act of 1981 (42 U.S.C. 8621 et seq.), as amended, a notice was published in the Federal Register on July 19, 2000 (65 FR 44791) announcing the Secretary's preliminary determination that $496,085 in FY 1999 Low Income Home Energy Assistance Program (LIHEAP) funds may be available for reallotment. The two grantees whose FY 1999 funds were subject to reallotment were notified of the Secretary's preliminary determination, and neither commented during the 30 days allowed for that purpose.

Pursuant to the statute cited above, funds will be realloted to all LIHEAP grantees based on the normal allocation formula as if they had been appropriated for FY 2000. No subgrantees or other entities may apply for these funds.

FOR FURTHER INFORMATION CONTACT: Janet Fox, Director, Division of Energy Assistance, Office of Community Services, 370 L'Enfant Promenade, S.W., Washington, D.C. 20447; telephone number (202) 401-9351.

Dated: August 30, 2000.
Donald Sykes,
Director, Office of Community Services.

[FR Doc. 00-22751 Filed 9-5-00; 8:45 am]

BILLING CODE 4184-01-M